DEPARTMENT OF THE TREASURY

Submission for OMB Review; Comment Request

October 11, 2007.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 19, 2007 to be assured of consideration.

Alcohol and Tobacco Tax and Trade Bureau (TTB)

OMB Number: 1513-0096.

Type of Review: Revision.

Title: Federal Firearms and Ammunition Excise Tax Deposit.

Forms: TTB 5300.27.

Description: Businesses and individuals who manufacture or import firearms, shells and cartridges may be required to deposit Federal excise tax. TTB uses this information to identify the taxpayer and the deposit.

Respondents: Business and other for profits, individuals or households.

Estimated Total Burden Hours: 1,056 hours.

OMB Number: 1513-0001.

Type of Review: Extension.

Title: Tax Information Authorization.

Form: TTB 5000.19.

Description: TTB F 5000.19 is required by TTB to be filed when a respondent's representative, not having a power of attorney, wishes to obtain confidential information regarding the respondent. After proper completion of the form, information can be released to the representative. TTB uses this form to properly identify the representative and his/her authority to obtain confidential information.

Respondents: Business and other for profits, individuals or households.

Estimated Total Burden Hours: 50 hours.

OMB Number: 1513-0003.

Type of Review: Extension.

Title: Referral of Information.

Form: TTB 5000.21.

Description: When we discover potential violations of Federal, State, or local, we use TTB F 5000.21 to make referrals to Federal, State, or local agencies to determine if they plan to take action, and to internally refer potential violations of TTB administered statutes. We also use TTB F 5000.21 to evaluate effectiveness of these referrals.

Respondents: Business and other for profits, individuals or households.

Estimated Total Burden Hours: 500 hours.

OMB Number: 1513-0003.

Type of Review: Extension.

Title: Offer in Compromise of liability incurred under the provisions of Title 26 U.S.C. enforced and administered by the Alcohol and Tobacco Tax and Trade Bureau.

Form: TTB 5640.1.

Description: TTB F 5640.1 is used by persons who wish to compromise criminal and/or civil penalties for violations of the IRC. If accepted, the offer in compromise is a settlement between the government and the party in violation in lieu of legal proceedings or prosecution. The form identifies the party making the offer, violations, amount of offer and circumstances concerning the violations.

Respondents: Business and other for profits, individuals or households.

Estimated Total Burden Hours: 80 hours.

Clearance Officer: Frank Foote, (202) 927-9347, Alcohol and Tobacco Tax and Trade Bureau, Room 200 East, 1310 G. Street, NW., Washington, DC 20005.

OMB Reviewer: Alexander T. Hunt, (202) 395-7316, Office of Management and Budget, Room 10235, New Executive Office Building, Washington, DC 20503.

Robert Dahl,
Treasury PRA Clearance Officer.

[FR Doc. E7-20502 Filed 10-17-07; 8:45 am]

BILLING CODE 4810-31-P